SOCIAL SECURITY ADMINISTRATION

Guidelines for Ensuring and Maximizing the Quality, Objectivity, Utility and Integrity of Information Disseminated by Federal Agencies

AGENCY: Social Security Administration (SSA).

ACTION: Notice; comments requested.

SUMMARY: Section 515 of the Treasury and General Government Appropriations Act for Fiscal Year 2001 (Pub. L. 106-554) directs the Office of Management and Budget (OMB) to issue government-wide guidelines for Federal agencies to ensure and maximize the quality, objectivity, utility and integrity of information disseminated by Federal agencies. In response, OMB issued government-wide guidelines on February 22, 2002 (67 FR 8452), as revised on March 4, 2002 (67 FR 9797), that require Federal agencies that are subject to the Paperwork Reduction Act (44 U.S.C. chapter 35) to develop and publish their own information quality guidelines along with administrative mechanisms to allow persons to request correction of information.

This notice serves to announce the availability of SSA section 515 draft quality guidelines and corrections procedures on the agency's web site http://www.ssa.gov/515. SSA is requesting comments on section 515 draft guidelines for ensuring and maximizing the quality, objectivity, utility and integrity of disseminated information and on the proposed mechanisms for seeking correction of information.

The SSA will consider all comments received in response to this notice and will develop proposed final guidelines and mechanisms for seeking correction for submission to OMB by July 1, 2002.

Notice of SSA's final guidelines and correction procedures will be published in the Federal Register and will be available on the SSA web site no later than October 1, 2002.

DATES: Submit comments on or before May 29, 2002.

ADDRESSES: Comments transmitted by FAX or e-mail may be sent to Mr. Brian Greenberg, Office of Research, Evaluation and Statistics at FAX number (410) 965-3308 or e-mail to Brian.V.Greenberg@ssa.gov. While comments by e-mail or fax are preferable, you may send your comments by mail to Mr. Brian Greenberg, Office of Research, Evaluation and Statistics, Room 4-C-15 Operations, 6401 Security Boulevard, Baltimore, MD 21235-6401. Mr. Greenberg may also be reached by phone at 410-965-0131.

Dated: April 22, 2002.
Paul N. Van de Water,
Acting Deputy Commissioner for Policy.

[FR Doc. 02-10379 Filed 4-26-02; 8:45 am]

BILLING CODE 4191-02-U